DEPARTMENT OF HOMELAND SECURITY

[Docket No. USCG-2011-0144]

Towing Safety Advisory Committee; Meeting

AGENCY: Coast Guard, DHS.

ACTION: Notice of Federal Advisory Committee Meeting.

SUMMARY: The Towing Safety Advisory Committee (TSAC) will meet June 16, 2011, in Memphis, Tennessee. This meeting will be open to the public.

DATES: The Towing Safety Advisory Committee will meet on Thursday, June 16, 2011, from 8 a.m. to 5 p.m. Please note that the meeting may close early if the committee has completed its business. Written comments must be submitted no later than June 8, 2011.

ADDRESSES: The meeting will be held at The Crowne Plaza Memphis Downtown Hotel, 300 North Second Street, Memphis, Tennessee 38105. Hotel Web site: http://www.cpmemphishotel.com/.

To facilitate public participation, we are inviting public comment on the issues to be considered by the committee and subcommittees. Written comments must be identified by Docket No. USCG-2011-0144 and submitted by one of the following methods:

• Federal Rulemaking Portal: http://www.regulations.gov. Follow the instructions for submitting comments.

• E-mail: Michael.J.Harmon@uscg.mil or Patrick.J.Mannion@uscg.mil. Include the docket number in the subject line of the message.

• Fax: 202-372-1926.

• Mail: U.S. Coast Guard Headquarters, CG-5222; 2100 Second Street, SW. Stop 7126; Washington, DC 20593-7126. We encourage use of electronic submissions because security screening may delay the delivery of mail.

FOR FURTHER INFORMATION CONTACT: Capt. Michael J. Harmon, ADFO, TSAC; U.S. Coast Guard Headquarters, CG-5222, Vessel & Facilities Operating Standards Division; telephone (202) 372-1427, fax (202) 372-1926, or e-mail at: michael.j.harmon@uscg.mil.

SUPPLEMENTARY INFORMATION: Notice of this meeting is given under the Federal Advisory Committee Act, 5 U.S.C. App. (Pub. L. 92-463) as amended (FACA). This Committee is established in accordance with and operates under the provisions of the FACA. It was established under the authority of 33 U.S.C. 1231a and advises, consults with, and makes recommendations reflecting the Committee's independent judgment to the Secretary of the Department of Homeland Security (DHS) on matters relating to shallow-draft inland and coastal waterway navigation and towing safety. TSAC may complete specific assignments such as studies, inquiries, workshops, and fact finding in consultation with individuals and groups in the private sector and/or with state and local government jurisdictions in compliance with FACA.

Agenda for June 16, 2011

The agenda for the June 16, 2011 TSAC public meeting is as follows:

(1) Roll call of committee members and determination of a quorum.

(2) Approval of minutes from the October 26, 2010, meeting.

(3) Committee Administration:

a. Discussion of Committee By-Laws.

b. DFO announcements.

(4) Presentation and discussion of reports and recommendations from the subcommittees on:

a. Update on Commercial/Recreational Boating Interface from TSAC Acting Chairman.

b. Work-Group report on the review and recommendations for the revision of NVIC 04-01 “Licensing and Manning for Officers of Towing Vessels.”

(5) Report on National Maritime Center (NMC) activities from NMC Commanding Officer.

(6) Report on Office of Vessel Activities and the Towing Vessel National Center of Expertise from CG-5431.

(7) An Update from the Office of Marine Investigations and Casualty Analysis (CG-545) by Captain David Fish & Mr. Dave Dickey:

a. A presentation on the LONNY FUGATE marine casualty.

b. Development of a new Navigation and Vessel Inspection Circular (NVIC) to refine and clarify casualty reporting requirements.

c. The Coast Guard's report to Congress on “Human Factors contributing to oil spills and potential oil spills.”

(8) Period for Public comment.

(9) Adjournment of meeting.

A copy of each report is available at the https://www.fido.gov Web site or by contacting Michael J. Harmon. Once you have accessed the TSAC Committee page, click on the meetings tab and then the “View” button for the meeting dated May 16, 2011 to access the information for this meeting. Minutes will be available 90 days after this meeting. Both minutes and documents applicable for this meeting can also be found at an alternative site using the following web address: https://homeport.uscg.mil and use these key strokes: Missions Port and Waterways Safety Advisory Committee TSAC and then use the event key.

The meeting will be recorded by a court reporter. A transcript of the meeting and any material presented at the meeting will be made available through the https://www.fido.gov Web site.

The committee will review the information presented on each issue, deliberate on any recommendations presented in the subcommittees' reports, and formulate recommendations for the Department's consideration.

Public Participation

To facilitate public participation, we are inviting public comment on the issues to be considered by the committee and subcommittees. Written comments must be identified by Docket No. USCG-2011-0144 and submitted by one of the methods specified in ADDRESSES. Written comments received will be posted without alteration at http://www.regulations.gov, including any personal information provided. Anyone can search the electronic form of comments received into the docket by the name of the individual submitting the comment (or signing the comment, if submitted on behalf of an association, business, labor union, etc.). You may review a Privacy Act notice regarding our public dockets in the January 17, 2008, issue of the Federal Register (73 FR 3316). For access to the docket to read background documents or comments received in response to this notice, go to http://www.regulations.gov.

An opportunity for public oral comment will be held during the TSAC public meeting on June 16, 2011, as the last agenda item prior to closing the meeting. Speakers are requested to limit their comments to 5 minutes. Please note that the public oral comment period may end before the prescribed ending time indicated following the last call for comments. Contact the individual listed below to register as a speaker.

For information on facilities or services for individuals with disabilities or to request special assistance at the public meeting, contact Capt. Michael J. Harmon at the telephone number or e-mail address indicated under the FOR FURTHER INFORMATION CONTACT section of this notice.

Minutes

Minutes from the meeting will be available for the public to review 30 days following the close of the meeting and can be accessed from the Coast Guard Homeport Web site http://homeport.uscg.mil.

Dated: May 12, 2011.
F.J. Sturm,
Acting Director of Commercial Regulations and Standards.

[FR Doc. 2011-12247 Filed 5-17-11; 8:45 am]

BILLING CODE 9110-04-P